DEPARTMENT OF STATE

[Public Notice 8961]

60-Day Notice of Proposed Information Collection: DS-4131 ADVANCE NOTIFICATION FORM: Tourist and Other Non-Governmental Activities in the Antarctic Treaty Area, 1405-0181

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: ADVANCE NOTIFICATION FORM: Tourist and Other Non-Governmental Activities in the Antarctic Treaty Area.

• OMB Control Number: 1405-0181.

• Type of Request: Extension of a Currently Approved Collection.

• Originating Office: Bureau of Oceans and International Environmental and Scientific Affairs, Office of Ocean and Polar Affairs (OES/OPA).

• Form Number: DS-4131.

• Respondents: Operators of Antarctic expeditions organized in or proceeding from the United States.

• Estimated Number of Respondents: 25.

• Estimated Number of Responses: 25.

• Average Hours Per Response: 10.5.

• Total Estimated Burden: Approx. 260 hours.

• Frequency: On occasion.

• Obligation to Respond: Voluntary.

DATES: The Department will accept comments from the public up to 60 days from December 2, 2014.

ADDRESSES: You may submit comments by any of the following methods:

• Email: SchandlbauerAX@state.gov.

• Mail (paper, disk, or CD-ROM submissions): Alfred Schandlbauer, Office of Ocean and Polar Affairs, Room 2665, Bureau of Oceans and International Environmental and Scientific Affairs, U.S. Department of State, 2201 C Street NW., Washington, DC 20520

• Fax: 202.647.4353

You must include the DS form number (if applicable), information collection title, and OMB control number in any correspondence.

FOR FURTHER INFORMATION CONTACT: Direct requests for additional information regarding the collection listed in this notice, including requests for copies of the proposed information collection and supporting documents, to Alfred Schandlbauer, Office of Ocean and Polar Affairs, Room 2665, Bureau of Oceans and International Environmental and Scientific Affairs, U.S. Department of State, 2201 C Street, NW., Washington, DC 20520. He may be reached on 202.647.0237 or at SchandlbauerAX@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Information solicited on the Advance Notification Form (DS-4131) provides the U.S. Government with information on tourist and other non-governmental expeditions to the Antarctic Treaty area. The U.S. Government needs this information to comply with Article VII(5)(a) of the Antarctic Treaty and associated documents.

Methodology:

Information will be submitted by U.S. organizers of tourist and other non-governmental expeditions to Antarctica. Copies should be submitted via email, although signed originals are also valid.

Dated: November 25, 2014.
Evan T. Bloom,
Director, Office of Ocean and Polar Affairs, Bureau of Oceans and International Environmental and Scientific Affairs, U.S. Department of State.

[FR Doc. 2014-28407 Filed 12-1-14; 8:45 am]

BILLING CODE 4710-09-P